DEPARTMENT OF STATE

[Public Notice 7727]

Bureau of Educational and Cultural Affairs; Modifications to Grant Guidelines and Procedures

SUMMARY: The Bureau of Educational and Cultural Affairs (ECA) announces four modifications to the guidelines governing the award of program grants and cooperative agreements by the Bureau and the procedures used to implement them, beginning on or about January 3, 2012.

Background

The guidelines governing ECA's grant program were established in 1983 and have been modified from time-to-time to comply with new directives and mandates. The four modifications outlined in this announcement will serve to further support the Department's Greening Diplomacy Initiative, help the Department adhere to new OMB guidance to all Federal agencies to streamline, standardize and simplify grants processes, allow for expanded monitoring and oversight over programs and increase opportunities for new organizations to compete for ECA programs.

The modifications are:

(1) Eliminating use of the Federal Register to announce ECA grant funding opportunities referred to as Request for Grant Proposals (RFGPs) and rely exclusively on the Grants.gov and ECA Web sites for this purpose.

(2) Requiring all applicants submitting proposals in response to RFGPs to utilize the grants.gov web—portal site exclusively for submission of grant proposals. Thus, eliminating the current “hard- copy” submission option.

(3) Increasing the “pilot grant limit” for awards to organizations with less than four years of experience conducting international exchanges from the current $60,000 level established in 1983 to $130,000 which reflects a comparable ceiling in today's dollars, adjusted for inflation. ECA will also update the pilot grant limit from time to time in the future, not to exceed the 1983 level adjusted for inflation.

(4) Modifying ECA's current grant renewal process to allow for Option Years for certain programs. Individual announcements for competed programs will contain information on whether a program will be renewed through additional awards or through the use of option years, pending successful performance and the availability of funds.

Additional Information

For additional information please contact Hans Posey, Program Management Division, ECA/EX/PM, U.S. Department of State, 2200 C Street NW., Washington, DC 20037, (202) 632-6385, email: PoseyHE@state.gov.

Dated: December 7, 2011.
J. Adam Ereli,
Principal Deputy Assistant Secretary, Bureau of Educational and Cultural Affairs, U.S. Department of State.

[FR Doc. 2011-31974 Filed 12-12-11; 8:45 am]

BILLING CODE 4710-11-P